DEPARTMENT OF THE INTERIOR

Bureau of Land Management

[17XL.LLIDT03100.L17110000.DQ0000.241A00; 4500104491]

Notice of Availability of the Proposed Craters of the Moon National Monument and Preserve Monument Management Plan Amendment and Final Environmental Impact Statement, Idaho

AGENCY: Bureau of Land Management, Department of the Interior.

ACTION: Notice.

SUMMARY: In accordance with the National Environmental Policy Act of 1969, as amended (NEPA), and the Federal Land Policy and Management Act of 1976, as amended (FLPMA), the Bureau of Land Management (BLM) has prepared a Proposed Monument Management Plan Amendment (Plan Amendment) and Final Environmental Impact Statement (EIS) for the Craters of the Moon National Monument and Preserve and by this notice is announcing its availability.

DATES: BLM planning regulations state that any person who meets the conditions as described in the regulations may protest the BLM's Proposed Plan Amendment/Final EIS. A person who meets the conditions and files a protest must file the protest within 30 days after the date that the Environmental Protection Agency publishes its notice of availability in the Federal Register.

ADDRESSES: Copies of the Proposed Plan Amendment/Final EIS have been sent to affected Federal, State, and local government agencies and to other stakeholders, including the Shoshone-Bannock and Shoshone-Paiute Tribes. Copies of the Proposed Plan Amendment/Final EIS are available for public review at the Shoshone BLM Field Office, 400 West F St., Shoshone, Idaho, 83352. Interested persons may also review the Proposed Plan Amendment/Final EIS online at https://www.blm.gov/programs/planning-and-nepa/plans-in-development/idaho/craters-of-moon. All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Lisa Cresswell, Planning Team Lead, telephone (208)732-7200; address 400 West F St., Shoshone, Idaho 83352; email BLM_ID_CRMO@blm.gov. Persons who use a telecommunications device for the deaf (TDD) may call the Federal Relay Service (FRS) at 1-800-877-8339 to contact Ms. Cresswell. The FRS is available 24 hours a day, 7 days a week, to leave a message or question with Ms. Cresswell. You will receive a reply during normal business hours.

SUPPLEMENTARY INFORMATION: The BLM prepared the Craters of the Moon National Monument and Preserve (hereafter, Monument) Proposed Plan Amendment/Final EIS in consultation with cooperating agencies, and in accordance with NEPA, FLPMA, implementing regulations, the BLM's Land Use Planning Handbook (H-1601-1), the BLM National Environmental Policy Act Handbook (H-1790-1), and other applicable law and policy, including IM No. 2016-105 Land Use Planning and National Environmental Policy Act Compliance within Greater Sage-Grouse Approved Resource Management Plans and Plan Amendments Decision Area.

The planning area comprises approximately 753,200 acres of land, which includes 275,100 acres managed by the BLM's Shoshone, Burley, and Upper Snake Field Offices. Based on this analysis, the Monument Management Plan (Plan) will be amended to guide livestock grazing management on BLM-administered public lands within the Monument into the future. Created in 1924 by Presidential Proclamation 1694, and expanded in 2000 by Presidential Proclamation 7373, the Monument is part of the BLM's National Conservation Lands and is one of two BLM National Monuments that are jointly managed with the National Park Service.

The BLM has completed the Proposed Plan Amendment/Final EIS to determine the appropriate management for livestock grazing on public lands within the Monument. The Proposed Plan Amendment/Final EIS analyzes grazing management options for the BLM-managed portions of the Monument, identifying lands available for livestock grazing and the number of authorized Animal Unit Months (AUMs).

The Proposed Plan Amendment/Final EIS updates the 2007 Plan's grazing management direction to ensure consistency with current laws, regulations, and policies. More specifically, the Proposed Plan Amendment/Final EIS evaluates a range of livestock grazing management options while maintaining the Monument values listed in Proclamation 7373. In addition, the Proposed Plan Amendment/Final EIS addresses a deficiency identified by the U.S. District Court for the District of Idaho. In 2011, the court found that the BLM erred when adopting the 2007 Plan. First, the court found that the BLM failed to adequately address the most recent science and agency policies relevant to the conservation of Greater sage-grouse. The BLM remedied this defect by issuing the 2015 Sage-Grouse Approved Resource Management Plan Amendment (2015 GRSG ARMPA), which amended the 2007 Plan. Second, the court found that the BLM failed to analyze a range of reasonable alternatives with respect to livestock grazing within the Monument. The BLM is addressing this second error by preparing the Proposed Plan Amendment and Final EIS.

The Final EIS includes five alternatives that provide a range of livestock grazing availability and Greater sage-grouse protections. Alternative C is the BLM's Proposed Plan.

Alternative A is the No Action Alternative, which would continue the management established in the 2007 Plan. Under this Alternative, 273,900 acres with the capacity for 38,187 AUMs would be available for livestock grazing.

Alternative B would reduce permitted AUMs by 75 percent and close five areas to grazing: Little Park kipuka (an island of older land surrounded by lava flows), the North Pasture of Laidlaw Park Allotment, Larkspur Park kipuka, the North Pasture of Bowl Crater Allotment, and Park Field kipuka. This alternative would adjust two allotment boundaries and make 21,000 acres unavailable for livestock grazing for the protection of Greater sage-grouse and other Monument values.

Alternative C, the Proposed Plan, would make 273,600 acres available for livestock grazing and adjust two allotment boundaries, which would set the maximum number of permitted AUMs at 37,792. Where appropriate, livestock grazing would be used as a tool to improve and/or conserve wildlife habitats. Guidelines for livestock grazing management would be set based on vegetation and wildlife habitat conditions and needs.

Alternative D would eliminate livestock grazing from BLM-administered lands within the Monument boundary and adjust two allotment boundaries. All livestock-related developments would be removed. Some fences may be required to exclude livestock from the Monument under this alternative.

Alternative E would reduce permitted AUMs by approximately 50 percent and close Larkspur Park kipuka to grazing. This alternative would adjust two allotment boundaries and make 272,800 acres available for grazing, which would set the maximum number of permitted AUMs at 19,338. No net gain in livestock-related infrastructure would be allowed.

The land use planning process was initiated on June 28, 2013, through a Notice of Intent published in the Federal Register, notifying the public of a formal scoping period and soliciting public participation. The BLM conducted four scoping meetings in July 2013 in the towns of Arco, Carey, Rupert, and American Falls, Idaho. During the scoping period, the public provided the BLM with input on relevant issues to consider in the planning process. Based on this public input and the agency's goals and objectives, the BLM was able to formulate the five alternatives for consideration and analysis in the Draft EIS. Because Area of Critical Environmental Concern (ACEC) nominations were previously analyzed in the 2007 EIS, no new ACEC nominations were solicited during scoping.

Comments on the Draft Plan Amendment/Draft EIS received from the public and during internal BLM review were considered and incorporated as appropriate into the Proposed Plan Amendment/Final EIS. Public comments resulted in the addition of clarifying text, but did not significantly change proposed land use plan decisions.

Instructions for filing a protest with the BLM Director regarding the Proposed Plan Amendment/Final EIS may be found in the “Dear Reader” Letter of the Craters of the Moon National Monument and Preserve Proposed Plan Amendment/Final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration after the original letter is received. If you wish to provide the BLM with such advance notification, please direct emails to protest@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Timothy M. Murphy,
BLM Idaho State Director.

[FR Doc. 2017-10779 Filed 5-25-17; 8:45 am]

BILLING CODE 4310-GG-P